DEPARTMENT OF COMMERCE

International Trade Administration

[C-351-833]

Carbon and Certain Alloy Steel Wire Rod From Brazil: Final Results of the Expedited Third Sunset Review of the Countervailing Duty Order

AGENCY: Enforcement and Compliance, International Trade Administration, Department of Commerce.

SUMMARY: As a result of this expedited sunset review, the Department of Commerce (Commerce) finds that revocation of this countervailing duty (CVD) order would be likely to lead to continuation or recurrence of a countervailable subsidy at the levels indicated in the “Final Results of Review” section of this notice.

DATES: Applicable October 8, 2019.

FOR FURTHER INFORMATION CONTACT: Ian Hamilton, AD/CVD Operations, Office II, Enforcement and Compliance, International Trade Administration, U.S. Department of Commerce, 1401 Constitution Avenue NW, Washington, DC 20230; telephone (202) 482-4798.

SUPPLEMENTARY INFORMATION:

Background

On August 30, 2002, Commerce published its CVD order on carbon and certain alloy steel wire rod (wire rod) from Brazil.¹ On July 3, 2014, at the conclusion of the second sunset review, Commerce issued a notice of continuation of the Order.² On June 4, 2019, Commerce published the notice of initiation of the third sunset review of the CVD order on wire rod from Brazil pursuant to section 751(c) of the Tariff Act of 1930, as amended (the Act).³ Commerce received a notice of intent to participate from the following domestic parties: Nucor Corporation and Commercial Metals Company (collectively, the domestic interested parties),⁴ within the deadline specified in 19 CFR 351.218(d)(1)(i). Each of the companies claimed interested party status under section 771(9)(C) of the Act, as a domestic producer of wire rod.

¹ See Final Affirmative Countervailing Duty Determination and Final Negative Critical Circumstances Determination: Carbon and Certain Alloy Steel Wire Rod from Brazil, 67 FR 55805 (August 30, 2002).

² See Carbon and Certain Alloy Steel Wire Rod from Brazil, Indonesia, Mexico, Moldova, and Trinidad and Tobago: Continuation of Antidumping and Countervailing Duty Orders, 79 FR 38008 (July 3, 2014).

³ See Initiation of Five-Year (“Sunset”) Review, 84 FR 25741 (June 4, 2019).

⁴ See Domestic Interested Parties' Letter, “Carbon and Certain Alloy Steel Wire Rod from Brazil: Notice of Intent to Participate in Review,” dated June 19, 2019 (in which they noted that Charter Steel, EVRAZ Rocky Mountain Steel, Liberty Steel USA, and Optimus Steel LLC also support the continuation of the order and are willing to participate in this sunset review).

Commerce received an adequate substantive response from the domestic interested parties within the 30-day deadline specified in 19 CFR 351.218(d)(3)(i).⁵ We did not receive a substantive response from any other domestic or interested parties in this proceeding, nor was a hearing requested.

⁵ See Domestic Interested Parties' Letter, “Carbon and Certain Alloy Steel Wire Rod from Brazil: Notice of Intent to Participate in Review,” {sic} dated July 3, 2019.

On July 29, 2019, Commerce notified the U.S. International Trade Commission (ITC) that it did not receive an adequate substantive response from respondent interested parties.⁶ As a result, pursuant to section 751(c)(3)(B) of the Act and 19 CFR 351.218(e)(1)(ii)(C)(2), Commerce has conducted an expedited (120-day) sunset review of the CVD order on wire rod from Brazil.

⁶ See Commerce's Letter, “Sunset Reviews Initiated on June 1, 2019,” dated July 29, 2019.

Scope of the Order

This order covers certain carbon and alloy steel wire rods. A full description of the scope of the order is contained in the Issues and Decision Memorandum,⁷ which is hereby adopted by this notice.

⁷ See Memorandum, “Final Results of the Expedited Third Sunset Review of the Countervailing Duty Order on Carbon and Certain Alloy Steel Wire Rod from Brazil,” dated concurrently with this notice (Issues and Decision Memorandum).

Analysis of Comments Received

All issues raised in this sunset review are addressed in the Issues and Decision Memorandum. The issues discussed in the Issues and Decision Memorandum are the likelihood of continuation or recurrence of a countervailable subsidy and the net countervailable subsidy rates likely to prevail if this order were revoked. The Issues and Decision Memorandum is a public document and is on file electronically via Enforcement and Compliance's Antidumping and Countervailing Duty Centralized Electronic Service System (ACCESS). ACCESS is available to registered users at https://access.trade.gov and in the Central Records Unit, Room B8024 of the main Commerce building. A list of the topics discussed in the Issues and Decision Memorandum is attached to this notice as an Appendix. In addition, a complete version of the Issues and Decision Memorandum can be accessed directly on the internet at http://www.enforcement.trade.gove/frn/. The signed and the electronic versions of the Issues and Decision Memorandum are identical in content.

Final Results of Sunset Review

Pursuant to sections 751(c)(1) and 752(b)(1) and (3) of the Act, we determine that revocation of the countervailing duty order on wire rod from Brazil would be likely to lead to continuation or recurrence of countervailable subsidy at the rates listed below:

Manufacturers/producers/exporters | Net countervailable subsidy (percent)
Companhia Siderurgica Belgo-Mineira (Belgo Mineira) | 6.74
Gerdau S.A | 2.31
All Others | 4.53

Administrative Protective Order

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

Notification to Interested Parties

This five-year (sunset) review and notice are in accordance with sections 751(c), 752(b), and 777(i)(1) of the Act and 19 CFR 351.218.

Dated: October 2, 2019.
P. Lee Smith,
Deputy Assistant Secretary for Policy and Negotiations Enforcement and Compliance.

Appendix

List of Topics Discussed in the Issues and Decision Memorandum

I. Summary

II. Background

III. Scope of the Order

IV. History of the Order

V. Legal Framework

VI. Discussion of the Issues

VII. Final Results of Review

VIII. Recommendation

[FR Doc. 2019-21937 Filed 10-7-19; 8:45 am]

BILLING CODE 3510-DS-P